DEPARTMENT OF HEALTH AND HUMAN SERVICES

Centers for Disease Control and Prevention

Information Education and Communication for Basic HIV Care Packages in the Republic of Uganda; Notice of Availability of Funds

Announcement Type: New.

Funding Opportunity Number: 04226.

Catalog of Federal Domestic Assistance Number: 93.941.

Key Dates:

Application Deadline: July 14, 2004.

I. Funding Opportunity Description

Authority: This program is authorized under Sections 301 and 307 of the Public Health Service Act, 42 U.S.C. 241 and 242l, and Section 104 of the Foreign Assistance Act of 1961, 22 U.S.C. 215lb.

Purpose: The Centers for Disease Control and Prevention (CDC) announces the availability of fiscal year (FY) 2004 funds for a cooperative agreement program for Information Education and Communication (IEC) for Basic HIV Care Packages in the Republic of Uganda. This program addresses the “Healthy People 2010” focus area of HIV.

The overall aim of this program is to promote two basic care packages for persons living with HIV/AIDS (PLWHAs). It is currently proposed that the basic preventive care package includes cotrimoxazole prophylaxis, active tuberculosis (TB) screening and treatment or Isoniazid (INH) prophylaxis, a safe water vessel with chlorine solution, an insecticide-treated bed-net (ITN), and prevention with positives counseling (PWPC). In addition to the above, the palliative care package would include pain management and psychosocial support. The process of agreeing to standardized packages with care provider organizations and the Ministry of Health (MOH) is well advanced. Additional work needs to be done on developing sustainable delivery systems for some components of the packages. Once standardization and delivery systems are agreed upon, these interventions could be rapidly expanded throughout the country through the many organizations providing care for HIV infected persons as well as through more general social marketing. The packages could also be promoted through HIV counseling and testing programs. The IEC program should promote the acceptance and use of the packages and undertake social marketing of specific package components as deemed necessary. The provision of antiretroviral (ARV) therapy is not part of this program.

The United States Government seeks to reduce the impact of HIV/AIDS in specific countries within sub-Saharan Africa, Asia and the Americas. The President's Emergency Plan for AIDS Relief (PEPFAR) encompasses HIV/AIDS activities in more than 75 countries and focuses on 14 countries, including Uganda, to develop comprehensive and integrated prevention, care and treatment programs. CDC has initiated its Global AIDS Program (GAP) to strengthen capacity and expand activities in the areas of: (1) HIV primary prevention; (2) HIV care, support and treatment; and (3) capacity and infrastructure development including surveillance. Targeted countries represent those with the most severe epidemics and the highest number of new infections. They also represent countries where the potential impact is greatest and where the United States government agencies are already active. Uganda is one of those countries.

CDC's mission in Uganda is to work with Ugandan and international partners to develop, evaluate, and support effective implementation of interventions to prevent HIV and related illnesses and improve care and support of persons with HIV/AIDS.

Basic care for people with HIV in Uganda is provided by a wide variety of governmental, non-governmental, community-based and faith-based organizations across the country as well as by people with HIV and their families. At present, there is little consistency on the content or quality of care provided. All people with HIV, whether receiving ARVs or not, would benefit from receiving a quality basic care package. Field research has shown that key low-cost elements of the basic preventive care package such as cotrimoxazole prophylaxis and provision of safe water prolong survival and increase the quality of life of persons with HIV. Palliative care, including pain management and psychosocial support for people with HIV nearing the end of their lives, has been pioneered in Africa by Ugandan organizations such as The AIDS Support Organization (TASO), Hospice Uganda and Mildmay. However, even when standardization of the basic HIV care packages has been agreed upon, there will still be a major effort required to ensure that all stakeholders are aware of the importance and rationale for the packages.

The purpose of this program is to ensure that all key stakeholders in basic care for people with HIV including care providing organizations, counselors, people with HIV and their families, and those offering HIV testing services and treatment know all the components of the basic care packages, their utility, and can access and use those elements as necessary. The program should develop a variety of targeted IEC strategies to meet its objectives. In addition, social marketing of elements of the basic care packages should be conducted, with the aim of providing access for people with HIV at the same time as avoiding stigmatization of the product. It is expected that a five-year program be developed. The program will adapt its strategies based on feedback from users and market research to improve uptake and access, ensuring that gaps in knowledge and access are progressively addressed. This program does not include any responsibility for direct financial support of care provision.

The measurable outcomes of the program will be in alignment with the GAP goals to reduce HIV transmission and improve care of persons living with HIV. They also will contribute to the PEPFAR goals, which are: (1) Within five years treat more than two million HIV-infected persons with effective combination ARV therapy; (2) care for seven million HIV-infected and affected persons including those orphaned by HIV/AIDS; and (3) prevent 10 million new infections.

Activities

1. Awardee Activities

Awardee activities for this program are as follows:

a. Identify project staffing needs; hire and train staff.

b. Identify vehicles, furnishings, fittings, equipment, computers and other fixed assets procurement needs of the program and acquire from normal sources.

c. Establish suitable administrative and financial management structures including a project office.

d. Work with the MOH and other stakeholders to standardize the basic care packages and support the MOH to incorporate standard definitions of packages in its policy.

e. Plan, develop and implement in coordination with the MOH stakeholders an information, education and communication program to promote acceptance and adoption of the basic care packages and their elements.

f. Support, through social marketing and other activities, the development of sustainable systems for production, procurement, delivery and access for each of the elements of the basic care packages.

g. Support the collection and analysis of data to enable assessment of the coverage by the basic care packages and to highlight gaps in, knowledge, access, uptake or appropriate use.

h. Ensure that data on information, education and communication activities and social marketing activities and relevant PEPFAR indicators is collected in an accurate and timely manner.

i. Ensure that the above activities are undertaken in a manner consistent with the national HIV/AIDS strategy.

2. CDC Activities

In a cooperative agreement, CDC staff is substantially involved in the program activities, above and beyond routine grant monitoring.

a. Provide technical assistance, as needed, in the development of information, education and communication materials and social marketing messages.

b. Collaborate with the awardee, as needed, in the development of an information technology system for knowledge, attitudes and practice of key stakeholder groups and in the analysis of data derived from those records.

c. Assist, as needed, in monitoring and evaluation of the program and in development of further appropriate initiatives.

d. Provide input, as needed, into the criteria for selection of staff and non-staff implementing the program.

e. Provide input into the overall program strategy.

f. Collaborate, as needed, with the awardee in the selection of key personnel to be involved in the activities to be performed under this agreement including approval of the overall manager of the program.

Technical assistance and training may be provided directly by CDC staff or through organizations that have successfully competed for funding under a separate CDC contract.

II. Award Information

Type of Award: Cooperative Agreement.

CDC involvement in this program is listed in the Activities Section above.

Fiscal Year Funds: 2004.

Approximate Total Funding: $3,500,000 (This amount is for the entire five-year project period.).

Approximate Number of Awards: 1.

Approximate Average Award: $700,000 (This amount is for the first 12-month budget period, and includes only direct costs).

Floor of Award Range: none.

Ceiling of Award Range: $700,000.

Anticipated Award Date: September 1, 2004.

Budget Period Length: 12 months.

Project Period Length: 5 years.

Throughout the project period, CDC's commitment to continuation of awards will be conditioned on the availability of funds, evidence of satisfactory progress by the awardee (as documented in required reports), and the determination that continued funding is in the best interest of the Federal Government.

III. Eligibility Information

III. 1. Eligible Applicants

Applications may be submitted by public nonprofit organizations, private nonprofit organizations, universities, colleges, research institutions, hospitals, and faith-based organizations that meet the following criteria:

1. Have at least three years of documented HIV/AIDS related programming experience in Uganda.

2. Have demonstrated expertise in the areas of public health communications and social marketing.

3. Have extensive knowledge of supply/marketing systems design and implementation.

4. Have experience in marketing components of the basic care package including the safe water vessel and chlorine.

5. Organizations must be based in Uganda.

III.2. Cost Sharing or Matching

Matching funds are not required for this program.

III.3. Other

If you request a funding amount greater than the ceiling of the award range, your application will be considered non-responsive and will not be entered into the review process. You will be notified that your application did not meet the submission requirements.

If your application is incomplete or non-responsive to the requirements listed below, it will not be entered into the review process. You will be notified that your application did not meet the submission requirements.

Note: Title 2 of the United States Code 1611 states that an organization described in section 501(c)(4) of the Internal Revenue Code that engages in lobbying activities is not eligible to receive Federal funds constituting an award, grant or loan.

IV. Application and Submission Information

IV.1. Address To Request Application Package

To apply for this funding opportunity use application form PHS 5161. Application forms and instructions are available on the CDC web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

Content and Form of Submission

Application: You must submit a project narrative with your application forms. Your narrative must be submitted in the following format:

• Maximum number of pages: 25. If your narrative exceeds the page limit, only the first pages which are within the page limit will be reviewed.

• Font size: 12 point unreduced.

• Paper size: 8.5 by 11 inches.

• Page margin size: One inch.

• Printed only on one side of page.

• Held together only by rubber bands or metal clips; not bound in any other way.

• Must be submitted in English.

Your narrative should address activities to be conducted over the entire project period, and should consist of, as a minimum, a plan, objectives, activities, methods, an evaluation framework, a budget and budget justification highlighting any supplies mentioned in the Program Requirements and any proposed capital expenditure.

The budget justification will not be counted in the page limit stated above. Guidance for completing your budget can be found on the United States government website at the following address: http://www.cdc.gov/od/pgo/funding/budgetguide.htm.

Additional information is optional and may be included in the application appendices. The appendices will not be counted toward the narrative page limit. Additional information could include but is not limited to: Organizational charts, curriculum vitas, letters of support, etc.

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Time

Application Deadline Date: July 14, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carrier's guarantee. If the documentation verifies a carrier problem, CDC will consider the application as having been received by the deadline.

This announcement is the definitive guide on application format, content, and deadlines. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Funds may be used for:

1. Information, education and communication within Uganda promoting the basic care packages as a whole or in part, including social marketing activities.

2. Evaluation and management of the activities.

Restrictions, which must be taken into account while writing your budget, are as follows:

• Antiretroviral Drugs—The purchase of antiretrovirals, reagents, and laboratory equipment for antiretroviral treatment projects require pre-approval from the HHS/CDC officials.

• Needle Exchange—No funds appropriated under this Act shall be used to carry out any program of distributing sterile needles or syringes for the hypodermic injection of any illegal drug.

• Funds may be spent for reasonable program purposes, including personnel, training, travel, supplies and services. Equipment may be purchased and renovations completed, however; prior written approval by CDC officials must be requested in writing.

• All requests for funds contained in the budget shall be stated in U.S. dollars. Once an award is made, CDC will not compensate foreign grantees for currency exchange fluctuations through the issuance of supplemental awards.

• The costs that are generally allowable in grants to domestic organizations are allowable to foreign institutions and international organizations, with the following exception: With the exception of the American University, Beirut, and the World Health Organization, Indirect Costs will not be paid (either directly or through sub-award) to organizations located outside the territorial limits of the United States or to international organization regardless of their location.

• The applicant may contract with other organizations under this program, however, the applicant must perform a substantial portion of the activities, including program management and operations, and delivery of prevention and care services for which funds are requested.

• An annual audit of these funds by a U.S. based audit firm with international branches and current licensure/authority in-country, and in accordance with International Accounting Standards or equivalent standard(s) approved in writing by CDC is required. The audit should specify the use of funds and the appropriateness and reasonableness of expenditures.

• A fiscal Recipient Capability Assessment may be required with the potential awardee, pre or post award, in order to review their business management and fiscal capabilities regarding the handling of U.S. Federal funds.

• Prostitution and Related Activities. The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides. A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any foreign recipient must have a policy explicitly opposing, in its activities outside the United States, prostitution and sex trafficking, except that this requirement shall not apply to the Global Fund to Fight AIDS, Tuberculosis and Malaria, the World Health Organization, the International AIDS Vaccine Initiative or to any United Nations agency, if such entity is a recipient of U.S. government funds in connection with this document.

The following definitions apply for purposes of this clause:

• Sex trafficking means the recruitment, harboring, transportation, provision, or obtaining of a person for the purpose of a commercial sex act. 22 U.S.C. 7102(9).

• A foreign recipient includes an entity that is not organized under the laws of any State of the United States, the District of Columbia or the Commonwealth of Puerto Rico. Restoration of the Mexico City Policy, 66 FR 17303, 17303 (March 28, 2001).

All recipients must insert provisions implementing the applicable parts of this section, “Prostitution and Related Activities,” in all subagreements under this award. These provisions must be express terms and conditions of the subagreement, acknowledge that each certification to compliance with this section, “Prostitution and Related Activities,” are a prerequisite to receipt of U.S. government funds in connection with this document, and must acknowledge that any violation of the provisions shall be grounds for unilateral termination of the agreement prior to the end of its term. In addition, all recipients must ensure, through contract, certification, audit, and/or any other necessary means, all the applicable requirements in this section, “Prostitution and Related Activities,” are met by any other entities receiving U.S. government funds from the recipient in connection with this document, including without limitation, the recipients' sub-grantees, sub-contractors, parents, subsidiaries, and affiliates. Recipients must agree that HHS may, at any reasonable time, inspect the documents and materials maintained or prepared by the recipient in the usual course of its operations that relate to the organization's compliance with this section, “Prostitution and Related Activities.”

All primary grantees receiving U.S. Government funds in connection with this document must certify compliance prior to actual receipt of such funds in a written statement referencing this document (e.g., “[Recipient's name] certifies compliance with the section, ‘Prostitution and Related Activities.' ”) addressed to the agency's grants officer. Such certifications are prerequisites to the payment of any U.S. Government funds in connection with this document.

Recipients' compliance with this section, “Prostitution and Related Activities,” is an express term and condition of receiving U.S. government funds in connection with this document, and any violation of it shall be grounds for unilateral termination by HHS of the agreement with HHS in connection with this document prior to the end of its term. The recipient shall refund to HHS the entire amount furnished in connection with this document in the event it is determined by HHS that the recipient has not complied with this section, “Prostitution and Related Activities.”

Awards will not allow reimbursement of pre-award costs.

IV.6. Other Submission Requirements

Application Submission Address: Submit the original and two hard copies of your application by mail or express delivery service to: Technical Information Management-PA 04226, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation. Your application will be evaluated against the following criteria:

1. Ability to carry out the proposal (25 points). Does the applicant demonstrate the capability to achieve the purpose of this proposal?

2. Understanding the issues, principles and systems requirements involved in promoting knowledge of and access to the basic care packages for PHAs in the context of Uganda. (25 points). Does the applicant demonstrate an understanding of the technical, social, managerial and other practical issues involved in delivering an effective information, education and communication program promoting the basic care package for PHAs throughout Uganda?

3. Work Plan (20 points). Does the applicant describe activities which are realistic, achievable, time-framed and appropriate to complete this program?

4. Personnel (20 points). Are the personnel, including qualifications, training, availability, and experience adequate to carry out the proposed activities?

5. Administrative and Accounting Plan (10 points). Is there a plan to prepare reports, monitoring and audit expenditures under this agreement, manage the resources of the program and produce, collect and analyze performance data?

6. Budget (not scored). Is the budget for conducting the activity itemized, well-justified, and consistent with stated activities and planned program activities?

V.2. Review and Selection Process

Applications will be reviewed for completeness by the Procurement and Grants Office (PGO) staff, and for responsiveness by NCHSTP/GAP. Incomplete applications and applications that are non-responsive to the eligibility criteria will not advance through the review process. Applicants will be notified that their application did not meet submission requirements.

An objective review panel will evaluate complete and responsive applications according to the criteria listed in section “V.1. Criteria” above.

V.3. Anticipated Announcement and Award Dates

Award Date: September 1, 2004.

VI. Award Administration Information

VI.1. Award Notices

Successful applicants will receive a Notice of Grant Award (NGA) from the CDC Procurement and Grants Office. The NGA shall be the only binding, authorizing document between the awardee and CDC. The NGA will be signed by an authorized Grants Management Officer, and mailed to the awardee fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-10 Smoke-Free Workplace Requirements.

Additional information on these requirements can be found on the CDC web site at the following Internet address: http://www.cdc.gov/od/pgo/funding/ARs.htm.

Information Security Plan

The contractor shall prepare and maintain an information security plan which promotes information protection and systems security appropriate to the environment in which it will be executed. This plan should address confidentiality and privacy, integrity and backup of data and systems, access, continuity of operations, and all other relevant considerations. The contractor is responsible for ensuring that the project complies with relevant federal and other jurisdictional regulations. Before developing the security plan, the contractor should review the considerations included in Office of Management and Budget Circular A-130, Appendix III. (http://www.whitehouse.gov/omb/circulars/a130/a130appendixiii.html), and FISMA (http://csrc.nist.gov/policies/FISMA-final.pdf), as well as other federal regulations, guidance, and information security standards.

The initial draft and all subsequent versions of the information security plan must be prepared and submitted by the contractor to the CDC contracting officer and to the CDC project officer, in Microsoft Word compatible format. The contractor shall be responsible for ensuring that the security plan is acceptable to the CDC project officer, as well as any subsequent federal reviewers (e.g., Center and/or CDC information security officers, HHS officials, OMB officials, etc.). Comments shall be conveyed to the contractor by the project officer and/or the contracting officer.

The project officer and the contracting officer will review the draft security plan and any subsequent versions and submit recommendations/comments to the contractor within 14 working days after receipt. The contractor shall incorporate the project officer's recommendations and submit paper and electronic copies of the security plan to the contracting officer and to the project officer within five working days after receipt of the project officer's comments.

In addition to developing and maintaining a security plan as described above, the contractor shall be responsible for continuously assessing and assuring information security for the project, and for updating the security plan as needed throughout the duration of the contract.

Information Security Training

The contractor shall be responsible for ensuring that all contractor employees receive employment screening and information security training appropriate to their responsibilities, prior to the start of their work on the contract. This would be provided at the contractor's expense and would be the contractor's responsibility to plan and arrange.

CDC is not required to grant the contractor access to CDC information technology resources (e.g., computers, network, email, etc.). If CDC were to agree to grant the contractor, or any of its employees, access to CDC information technology resources at any point in time, it would be the contractor's responsibility to ensure that all of its employees to be granted such access complete any additional required information security courses that CDC specifies prior to gaining or utilizing such access. It would also be the contractor's responsibility to ensure that such employees have met any other CDC and federal requirements, such as, for example, completion of background checks, before gaining or utilizing access to CDC information technology resources.

Non-Disclosure

The contractor and any subcontractors or employees are forbidden from sharing any technical or logistical information they may gain in conjunction with matters related to this contract which could jeopardize the physical or information security of CDC or its employees, projects, or information systems.

Certification and Accreditation

The federal government and CDC now require (with rare interim exceptions) that a certification and accreditation (C and A) process be completed before any new information technology systems can go online.

VI.3. Reporting Requirements

Provide CDC with an original plus two hardcopies of:

1. Semiannual progress reports, no more than 30 days after the end of the reporting period.

2. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures of Effectiveness.

3. Financial status report, no more than 90 days after the end of the budget period.

4. Final financial and performance reports, no more than 90 days after the end of the project period.

These reports must be sent to the Grants Management Specialist listed in the “Agency Contacts” section of this announcement.

VII. Agency Contacts

For general questions about this announcement, contact: Technical Information Management, CDC Procurement and Grants Office, 2920 Brandywine Road, Atlanta, GA 30341-4146, Telephone: 770-488-2700.

For program technical assistance, contact: Jonathan Mermin, MD, MPH, Global Aids Program [GAP], Uganda Country Team, National Center for HIV, STD and TB Prevention, Centers for Disease Control and Prevention [CDC], PO Box 49, Entebbe, Uganda. Telephone: +256-41320776, E-mail: jhm@cdc.gov.

For business management and budget assistance, contact: Shirley Wynn, Contract Specialist, Procurement and Grants Office, Centers for Disease Control and Prevention, 2920 Brandywine Road, Atlanta, GA 30341-4146, Telephone: 770-488-1515, E-mail address: zbx6@cdc.gov.

Dated: June 4, 2004.
William P. Nichols,
Acting Director, Procurement and Grants Office, Centers for Disease Control and Prevention.

[FR Doc. 04-13193 Filed 6-10-04; 8:45 am]

BILLING CODE 4163-18-P